ARCHITECTURAL AND TRANSPORTATION BARRIERS COMPLIANCE BOARD

Informational Meetings

AGENCY: Architectural and Transportation Barriers Compliance Board.

ACTION: Notice of informational meetings.

SUMMARY: The Architectural and Transportation Barriers Compliance Board (Access Board) will hold two informational meetings at the dates and locations noted below. The meetings will assist the Access Board in developing accessibility guidelines under the Americans with Disabilities Act for passenger vessels. Specifically, the meetings will focus on the issue of providing accessible embarkation and disembarkation for persons with disabilities on and off passenger vessels which are subject to 46 CFR subchapters H or K, and foreign flag vessels of a comparable size and passenger capacity.

DATES: The Access Board will hold the first meeting on August 20, 2003, from 1:30 p.m. to 5:30 p.m. A second meeting will be held on September 9, 2003, from 1: p.m to 5:30 p.m.

ADDRESSES: The meeting on August 20 will be held at the Hilton New Orleans Riverside, Two Poydras Street, New Orleans, LA. The second meeting, on September 9 will be held at the Seattle Marriott Waterfront, 2100 Alaskan Way, Seattle, WA.

FOR FURTHER INFORMATION CONTACT: Paul Beatty, Office of Technical and Information Services, Architectural and Transportation Barriers Compliance Board, 1331 F Street, NW., suite 1000, Washington, DC 20004-1111. Telephone number (202) 272-0012 (Voice); (202) 272-0082 (TTY). These are not toll-free numbers. Electronic mail address: pvag@access-board.gov. This document is available in alternate formats (cassette tape, Braille, large print, or ASCII disk) upon request. This document is also available on the Board's Internet Site (http://www.access-board.gov/pvagmtg.htm).

SUPPLEMENTARY INFORMATION: In 1998, the Access Board established an advisory committee to make recommendations on accessibility guidelines for passenger vessels. Membership included disability groups, industry organizations, State and local government agencies, and passenger vessel operators. The Passenger Vessel Access Advisory Committee held nine meetings from September 1988 to September 2000 and submitted a final report to the Board entitled “Recommendations for Accessibility Guidelines for Passenger Vessels” in December 2000. The Board has made this report widely available as a source of guidance until final guidelines are developed. The report is available on the Access Board's Web site at http://www.access-board/gov/pvaac/commrept/index.htm. Single copies of this publication may be obtained at no cost by calling the Access Board's automated publications order line (202) 272-0080, by pressing 2 on the telephone keypad, then 1, and requesting publication A-42 (Recommendations for Accessibility Guidelines for Passenger Vessels). Persons using a TTY should call (202) 272-0082. Please record a name, address, telephone number and request publication A-42. This document is available in alternate formats upon request. Persons who want a copy in an alternate format should specify the type of format (cassette tape, Braille, large print, or ASCII disk).

Although the advisory committee provided recommendations on a number of issues, specific recommendations regarding running slopes for gangways were not provided. (See Chapter 2 of the Recommendations for Accessibility Guidelines for Passenger Vessels report.) Because passenger vessels come in different shapes and sizes and the marine environment in which the piers are located are influenced by many factors which add to the complexities of providing access, additional information is needed on this topic before specific criteria for gangway running slopes can be proposed for public comment.

The meetings will principally focus on the issue of gangway running slopes. As gangways are the primary method used in providing a pedestrian connection between piers and passenger vessels, the running slope of such gangways is an important access issue for persons with disabilities. In addition to gangways, the meeting will also focus on other methods used to provide access on and off passenger vessels. Issues not related to providing access on and off passenger vessels are not the subject of these meetings.

To maximize the time available, the meeting will only focus on passenger vessels which are subject to 46 CFR subchapters H or K (and foreign flag vessel of a comparable size and passenger capacity). These passenger vessels are typically larger vessels, as compared to those subject to subchapters C or T.

Interested members of the public are encouraged to contact Paul Beatty at the Access Board at (202) 272-0012 (Voice), (202) 272-0082 (TTY) or pvag@access-board.gov to pre-register to attend the informational meetings. All meetings are accessible to persons with disabilities. Sign language interpreters and an assistive listening system are available at all meetings. Persons attending the informational meetings are requested to refrain from using perfume, cologne, and other fragrances for the comfort of other participants.

Lawrence W. Roffee,
Executive Director.

[FR Doc. 03-18997 Filed 7-24-03; 8:45 am]

BILLING CODE 8150-01-M